DEPARTMENT OF COMMERCE

International Trade Administration

[A-570-028]

Hydrofluorocarbon Blends From the People's Republic of China: Preliminary Results and Partial Rescission of Antidumping Duty Administrative Review; 2022-2023

AGENCY: Enforcement and Compliance, International Trade Administration, Department of Commerce.

SUMMARY: The U.S. Department of Commerce (Commerce) preliminarily determines that no companies under review qualify for a separate rate and that these companies are, therefore, considered to be part of the People's Republic of China (China)-wide entity. Additionally, Commerce is partially rescinding this review with respect to: companies for which all review requests were timely withdrawn; and a company with no entries of subject merchandise during the period of review (POR), August 1, 2022, through July 31, 2023. Interested parties are invited to comment on these preliminary results.

DATES: Applicable May 9, 2024.

FOR FURTHER INFORMATION CONTACT: Melissa Porpotage, AD/CVD Operations, Office IX, Enforcement and Compliance, International Trade Administration, U.S. Department of Commerce, 1401 Constitution Avenue NW, Washington, DC 20230; telephone: (202) 482-1413.

SUPPLEMENTARY INFORMATION:

Background

On August 2, 2023, Commerce published a notice of opportunity to request an administrative review of the antidumping duty order on hydrofluorocarbon (HFC) blends from China.¹ Commerce received timely requests for an administrative review from the American HFC Coalition (the petitioner), and two Chinese companies. On October 18, 2023, Commerce published in the Federal Register a notice of initiation of an administrative review of the Order for the period August 1, 2022, through July 31, 2023, covering 19 companies, in accordance with section 751(a) of the Tariff Act of 1930, as amended (the Act) and 19 CFR 351.221(c)(1)(i).²

¹ See Antidumping or Countervailing Duty Order, Finding, or Suspended Investigation; Opportunity to Request Administrative Review and Join Annual Inquiry Service List, 88 FR 50840 (August 2, 2023); see also Hydrofluorocarbon Blends from the People's Republic of China: Antidumping Duty Order, 81 FR 55436 (August 19, 2016) (Order).

² See Initiation of Antidumping and Countervailing Duty Administrative Reviews, 88 FR 71829 (October 18, 2023) (Initiation Notice).

On December 4 and 8, 2023, the two Chinese companies that requested their own reviews, Zhejiang Sanmei Chemical Ind. Co., Ltd. (Zhejiang Sanmei) and ICool Chemical Co., Ltd. (ICool Chemical), filed timely withdrawals of their respective review requests.³ On January 16, 2024, the petitioner filed a timely withdrawal of its review request for Zhejiang Sanmei.⁴ Therefore, because all review requests for Zhejiang Sanmei and ICool Chemical have been withdrawn, Commerce is rescinding the review for these the two companies, as discussed below.

³ See Zhejiang Sanmei's Letter, “Withdrawal of Request for Administrative Review,” dated December 4, 2023; see also ICool Chemical's Letter, “Withdrawal of Request for Administrative Review,” dated December 8, 2023.

⁴ See Petitioner's Letter, “Partial Withdrawal of Request for Administrative Review,” dated January 16, 2024.

Finally, on January 16, 2024, we issued a memorandum notifying interested parties of our intent to rescind the review of certain companies subject to the review because they had no suspended entries during the POR.⁵ We received no comments from interested parties on our intent to rescind.

⁵ See Memorandum, “Notice of Intent to Rescind Review, In Part,” dated January 16, 2024 (Intent to Rescind Memorandum).

Respondent Selection

On October 25, 2023, Commerce released U.S. Customs and Border Protection (CBP) entry data in order to select respondents for individual examination.⁶ On November 1, 2023, we received comments regarding respondent selection from the petitioner.⁷ However, we did not select any mandatory respondents for individual examination because only Zhejiang Sanmei and ICool Chemical timely filed separate rate applications and were, therefore, eligible for individual examination. However, as noted above, we are rescinding this review for Zhejiang Sanmei and ICool Chemical. No other company under review timely filed a separate rate application and/or certification; therefore, no company remaining under review is eligible for individual examination.⁸ As such, there is no decision memorandum accompanying this notice.

⁶ See Memorandum, “Release of U.S. Customs and Border Protection Entry Data,” dated October 25, 2023.

⁷ See Petitioner's Letter, “Comments Regarding CBP Data and Respondent Selection,” dated November 1, 2023.

⁸ See Initiation Notice, 88 FR at 71830, where Commerce noted that “{e}xporters and producers must file a timely Separate Rate Application or Certification if they want to be considered for individual examination.” See also, e.g., Certain Cased Pencils from the People's Republic of China: Preliminary Results of Antidumping Duty Administrative Review; 2021-2022, 88 FR 60636 (September 5, 2023), unchanged in Certain Cased Pencils From the People's Republic of China: Final Results of Antidumping Duty Administrative Review; 2021-2022, 88 FR 78721 (November 16, 2023).

Scope of the Order

The products subject to the Order are HFC blends. HFC blends covered by the scope are R-404A, a zeotropic mixture consisting of 52 percent 1,1,1-Trifluoroethane, 44 percent Pentafluoroethane, and 4 percent 1,1,1,2-Tetrafluoroethane; R-407A, a zeotropic mixture of 20 percent Difluoromethane, 40 percent Pentafluoroethane, and 40 percent 1,1,1,2-Tetrafluoroethane; R-407C, a zeotropic mixture of 23 percent Difluoromethane, 25 percent Pentafluoroethane, and 52 percent 1,1,1,2-Tetrafluoroethane; R-410A, a zeotropic mixture of 50 percent Difluoromethane and 50 percent Pentafluoroethane; and R-507A, an azeotropic mixture of 50 percent Pentafluoroethane and 50 percent 1,1,1-Trifluoroethane also known as R-507. The foregoing percentages are nominal percentages by weight. Actual percentages of single component refrigerants by weight may vary by plus or minus two percent points from the nominal percentage identified above.⁹

⁹ R-404A is sold under various trade names, including Forane® 404A, Genetron® 404A, Solkane® 404A, Klea® 404A, and Suva®404A. R-407A is sold under various trade names, including Forane® 407A, Solkane® 407A, Klea®407A, and Suva®407A. R-407C is sold under various trade names, including Forane® 407C, Genetron® 407C, Solkane® 407C, Klea® 407C and Suva® 407C. R-410A is sold under various trade names, including EcoFluor R410, Forane® 410A, Genetron® R410A and AZ-20, Solkane® 410A, Klea® 410A, Suva® 410A, and Puron®. R-507A is sold under various trade names, including Forane® 507, Solkane® 507, Klea®507, Genetron®AZ-50, and Suva®507. R-32 is sold under various trade names, including Solkane®32, Forane®32, and Klea®32. R-125 is sold under various trade names, including Solkane®125, Klea®125, Genetron®125, and Forane®125. R-143a is sold under various trade names, including Solkane®143a, Genetron®143a, and Forane®125.

Any blend that includes an HFC component other than R-32, R-125, R-143a, or R-134a is excluded from the scope of the Order.

Excluded from the Order are blends of refrigerant chemicals that include products other than HFCs, such as blends including chlorofluorocarbons (CFCs), hydrochlorofluorocarbons (HCFCs), hydrocarbons (HCs), or hydrofluoroolefins (HFOs).

Also excluded from the Order are patented HFC blends, including, but not limited to, ISCEON® blends, including MO99™ (R-438A), MO79 (R-422A), MO59 (R-417A), MO49Plus™ (R-437A) and MO29™ (R-4 22D), Genetron® PerformaxTM LT (R-407F), Choice® R-421A, and Choice® R-421B.

HFC blends covered by the scope of the Order are currently classified in the Harmonized Tariff Schedule of the United States (HTSUS) at subheadings 3827.61.0000, 3827.63.0000, 3827.64.0000, 3827.65.0000, 3827.68.0000, 3827.69.0000. Although the HTSUS subheadings are provided for convenience and customs purposes, the written description of the scope is dispositive.¹⁰

¹⁰ See Order, 81 FR at 55436-37.

Rescission of Administrative Review, In Part

Pursuant to 19 CFR 351.213(d)(1), Commerce will rescind an administrative review, in whole or in part, if the party that requested the review withdraws its request within 90 days of the publication of the notice of initiation of the requested review. Because interested parties withdrew all requests for administrative review of Zhejiang Sanmei and ICool Chemical within 90 days of the date of publication of the Initiation Notice, Commerce is rescinding this review with respect to these companies, in accordance with 19 CFR 351.213(d)(1).

Moreover, Commerce notified all interested parties of its intent to rescind this administrative review for companies with an existing separate rate because there were no reviewable, suspended entries from these companies during the POR.¹¹ No interested party submitted comments. Therefore, in the absence of any suspended entries of subject merchandise from Zhejiang Yonghe Refrigerant Co., Ltd. (Zhejiang Yonghe) during the POR, we are rescinding this administrative review for Zhejiang Yonghe in accordance with 19 CFR 351.213(d)(3). However, we are not rescinding this administrative review for Daikin Fluorochemicals (China) Co., Ltd., a company that was also listed in the Intent to Rescind Memorandum, because this company subsequently lost its eligibility for a separate rate.¹²

¹¹ See Intent to Rescind Memorandum.

¹² See Hydrofluorocarbon Blends from the People's Republic of China: Final Results of Antidumping Duty Administrative Review; 2021-2022, 89 FR 16724, 16726 (March 8, 2024).

China-Wide Entity

In accordance with Commerce's policy, the China-wide entity will not be under review unless a party specifically requests, or Commerce self-initiates, a review of the entity.¹³ Because no party requested a review of the China-wide entity, the entity is not under review and the entity's rate of 216.37 percent is not subject to change.¹⁴

¹³ See Antidumping Proceedings: Announcement of Change in Department Practice for Respondent Selection in Antidumping Duty Proceedings and Conditional Review of the Nonmarket Economy Entity in NME Antidumping Duty Proceedings, 78 FR 65963 (November 4, 2013).

¹⁴ See Order, 81 FR at 55438.

Preliminary Results of Review

Commerce finds that, because none of the remaining companies under review submitted a timely separate rate application or certification, none of these companies has established its eligibility for a separate rate. Therefore, we consider the companies listed in the appendix to be part of the China-wide entity for these preliminary results, and thus, subject to the China-wide entity rate.

Disclosure and Public Comment

Normally, Commerce discloses to interested parties the calculations performed in connection with the preliminary results within five days of any public announcement or, if there is no public announcement, within five days of the date of publication of the notice of preliminary results in the Federal Register, in accordance with 19 CFR 351.224(b). However, because Commerce preliminarily determined that each of the companies listed in the appendix is part of the China-wide entity, there are no calculations to disclose.

Interested parties may submit case briefs to Commerce no later than 30 days after the date of publication of this notice.¹⁵ Rebuttal briefs, limited to issues raised in the case briefs, may be filed no later than five days after the deadline for filing case briefs.¹⁶ Interested parties who submit case briefs or rebuttal briefs in this proceeding must submit: (1) a table of contents listing each issue; and (2) a table of authorities.¹⁷

¹⁵ See 19 CFR 351.309(c); see also 19 CFR 351.303 (for general filing requirements).

¹⁶ See 19 CFR 351.309(d); see also Administrative Protective Order, Service, and Other Procedures in Antidumping and Countervailing Duty Proceedings,88 FR 67069, 67077 (September 29, 2023) (APO and Service Final Rule).

¹⁷ See 19 CFR 351.309(c)(2) and (d)(2).

As provided under 19 CFR 351.309(c)(2) and (d)(2), in prior proceedings we have encouraged interested parties to provide an executive summary of their briefs that should be limited to five pages total, including footnotes. In this review, we instead request that interested parties provide at the beginning of their briefs a public executive summary for each issue raised in their briefs.¹⁸ Further, we request that interested parties limit their public executive summary of each issue to no more than 450 words, not including citations. We intend to use the public executive summaries as the basis of the comment summaries included in the issues and decision memorandum that will accompany the final results in this administrative review. We request that interested parties include footnotes for relevant citations in the public executive summary of each issue. Note that Commerce has amended certain of its requirements pertaining to the service of documents in 19 CFR 351.303(f).¹⁹

¹⁸ We use the term “issue” here to describe an argument that Commerce would normally address in a comment of the Issues and Decision Memorandum.

¹⁹ See APO and Service Final Rule, 88 FR at 67069.

Pursuant to 19 CFR 351.310(c), interested parties who wish to request a hearing must submit a written request to the Assistant Secretary for Enforcement and Compliance, filed electronically via ACCESS. Requests should contain: (1) the party's name, address, and telephone number; (2) the number of participants; and (3) a list of issues to be discussed. Issues raised in the hearing will be limited to those raised in the respective case briefs. An electronically filed hearing request must be received successfully in its entirety by Commerce's electronic records system, ACCESS, by 5:00 p.m. Eastern Time within 30 days after the date of publication of this notice. If a request for a hearing is made, Commerce will inform parties of the scheduled date for the hearing.²⁰

²⁰ See 19 CFR 351.310(d).

Assessment Rates

Pursuant to section 751(a)(2)(A) of the Act and 19 CFR 351.212(b)(1), Commerce will determine, and CBP shall assess, antidumping duties on all appropriate entries of subject merchandise covered by this review. For the companies for which Commerce is rescinding this administrative review, Commerce will instruct CBP to assess antidumping duties on all appropriate entries at a rate equal to the cash deposit of estimated antidumping duties required at the time of entry, or withdrawal from warehouse, for consumption, during the period August 1, 2022, through July 31, 2023, in accordance with 19 CFR 351.212(c)(1)(i). Commerce intends to issue assessment instructions to CBP regarding these entries no earlier than 35 days after the date of publication of this notice in the Federal Register.

If we continue to treat the companies identified in the appendix as part of the China-wide entity in the final results, we will instruct CBP to apply an ad valorem assessment rate of 216.37 percent to all entries of subject merchandise during the POR which were produced and/or exported by those companies. For the China-wide entity, Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication). The final results of this review shall be the basis for the assessment of antidumping duties on entries of merchandise covered by the final results of this review and for future deposits of estimated duties, where applicable.

Cash Deposit Requirements

The following cash deposit requirements will be effective upon publication of the final results of this administrative review for shipments of the subject merchandise from China entered, or withdrawn from warehouse, for consumption on or after the publication date, as provided by sections 751(a)(2)(C) of the Act: (1) for previously investigated or reviewed Chinese and non-Chinese exporters not discussed above that have separate rates, the cash deposit rate will continue to be equal to the exporter-specific weighted-average dumping margin published of the most recently-completed segment of this proceeding; (2) for all Chinese exporters of subject merchandise that have not been found to be entitled to a separate rate, the cash deposit rate will be the rate for the China-wide entity, 216.37 percent; and (3) for all non-Chinese exporters of subject merchandise which have not received their own rate, the cash deposit rate will be the rate applicable to the Chinese exporter that supplied that non-Chinese exporter. These cash deposit requirements, when imposed, shall remain in effect until further notice.

Final Results of Review

Unless otherwise extended, Commerce intends to issue the final results of this administrative review, including the results of its analysis of issues raised by the parties in the written comments, within 120 days of publication of these preliminary results in the Federal Register, pursuant to section 751(a)(3)(A) of the Act and 19 CFR 351.213(h)(1).

Notification to Importers

This notice also serves as a preliminary reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Notification to Interested Parties

These preliminary results are issued and published in accordance with sections 751(a)(1)(B) and 777(i)(1) of the Act and 19 CFR 351.221(b)(4).

Dated: May 2, 2024.
Ryan Majerus,
Deputy Assistant Secretary for Policy and Negotiations, performing the non-exclusive functions and duties of the Assistant Secretary for Enforcement and Compliance.

Appendix

Companies Under Review Determined To Be Part of the China-Wide Entity

1. Changzhou Vista Chemical Co., Ltd.

2. Daikin Fluorochemicals (China) Co., Ltd.

3. Dongyang Weihua Refrigerants Co., Ltd.

4. Hanzhou Icetop Refrigeration Co., Ltd.

5. Jiangsu Sanmei Chemicals Co., Ltd.

6. Oasis Chemical Co., Limited

7. Puremann, Inc.

8. Sinochem Environmental Protection Chemicals (Taicang) Co., Ltd.

9. Superfy Industrial Limited

10. Tianjin Synergy Gases Products, Co., Ltd

11. Weitron International Refrigeration Equipment (Kunshan) Co., Ltd.

12. Weitron International Refrigeration Equipment Co., Ltd.

13. Yangfar Industry Co., Ltd.

14. Zhejiang Lantian Environmental Protection Fluoro Material Co. Ltd.

15. Zhejiang Quzhou Lianzhou Refrigerants Co., Ltd.

16. Zhejiang Zhonglan Refrigeration Technology Co., Ltd.

[FR Doc. 2024-10067 Filed 5-8-24; 8:45 am]

BILLING CODE 3510-DS-P